NUCLEAR REGULATORY COMMISSION

[Docket No. 50-374; 2012-0083]

Exelon Generation Company, LLC; Notice of Withdrawal of Application for Amendment to Facility Operating License

The U.S. Nuclear Regulatory Commission (NRC, the Commission) has granted the request of Exelon Generation Company (the licensee) to withdraw its October 26, 2011, application for proposed amendment to Facility Operating License No. NPF-18 for the LaSalle County Station, Unit 2, located in LaSalle County, Illinois.

The proposed amendment would have revised license condition 2.C.(32) to require the installation of NETCO-SNAP-IN® inserts to be completed no later than December 31, 2012. In addition, license condition 2.C.(31) would be revised to apply until March 31, 2012, and a new license condition 2.C.(34) was proposed to prohibit fuel storage after March 31, 2012, in spent fuel pool storage rack cells that had not been upgraded with the NETCO-SNAP-IN® inserts.

The Commission had previously issued a Notice of Consideration of Issuance of Amendment published in the Federal Register on January 10, 2012 (77 FR 1514). However, by letter dated January 6, 2012, the licensee withdrew the proposed change.

For further details with respect to this action, see the application for amendment dated October 26, 2011, and the licensee's letter dated January 6, 2012, which withdrew the application for license amendment. Documents may be examined, and/or copied for a fee, at the NRC's Public Document Room (PDR), located at One White Flint North, Public File Area O1-F21, 11555 Rockville Pike (first floor), Rockville, Maryland 20852. Publicly available documents created or received at the NRC are accessible electronically through the Agencywide Documents Access and Management System (ADAMS) in the NRC Library at http://www.nrc.gov/reading-rm/adams.html. Persons who do not have access to ADAMS or who encounter problems in accessing the documents located in ADAMS should contact the NRC PDR Reference staff by telephone at 1-800-397-4209, or 301-415-4737 or by email to pdr.resource@nrc.gov.

Dated at Rockville, Maryland, this 19th day of March 2012.
For the Nuclear Regulatory Commission.
Nicholas J. DiFrancesco,
Project Manager, Plant Licensing Branch 3-2, Division of Operating Reactor Licensing, Office of Nuclear Reactor Regulation.

[FR Doc. 2012-7949 Filed 4-2-12; 8:45 am]

BILLING CODE 7590-01-P